NUCLEAR REGULATORY COMMISSION

Workshop on Issues Related to the Level of Programmatic Information Needed in a Combined License Application; Submitted in Accordance With 10 CFR Part 52

AGENCY: Nuclear Regulatory Commission.

ACTION: Notice of August 25, 2003, public workshop.

SUMMARY: The Nuclear Regulatory Commission (NRC) is holding a workshop on August 25, 2003, on issues related to the level of programmatic information that would be needed in order to issue a combined license (COL) in accordance with the requirements of Title 10 of the Code of Federal Regulations Part 52, Subpart C without inspections, tests, analyses, and acceptance criteria (ITAAC) for any particular program. The NRC staff has developed a draft proposal titled, “Use of Fire Protection as an Example Program to Discuss Programmatic Inspections, Tests, Analyses, and Acceptance Criteria,” to address this issue. The NRC staff has scheduled the public workshop to discuss the issue and to solicit stakeholder comments on the staff's draft proposal. This workshop will be transcribed. To allow for timely registration on the day of the meeting, it is recommended that guests preregister for the workshop. To preregister for the workshop, contact Mr. Joseph Sebrosky (information provided below) and provide the following information: name, organization, phone number, and country of citizenship.

FOR FURTHER INFORMATION CONTACT: Mr. Joseph M. Sebrosky, New, Research and Test Reactors Program, U.S. Nuclear Regulatory Commission, Washington, DC 20555-0001.

Mr. Sebrosky may be reached by phone at 301-415-1132 or by e-mail at jms3@nrc.gov. Questions on the public meeting process should be directed to Mr. Chip Cameron; e-mail: fxc@nrc.gov, telephone: 301-415-1642; Office of the General Counsel, U.S. Nuclear Regulatory Commission, Washington, DC 20555-0001.

DATES: The workshop will be held on August 25, 2003, from 1 p.m. to 4:30 p.m. Comments on the NRC staff's draft proposal should be submitted by September 15, 2003. Comments received after the due date will be considered if it is practical to do so, but the Commission is able to assure consideration only for comments received on or before this date.

ADDRESSES: The workshop will be held at the Nuclear Regulatory Commission offices in the Two White Flint North Auditorium, 11545 Rockville Pike, Rockville, Maryland.

The NRC staff's draft proposal to use fire protection as an example program to discuss programmatic ITAAC is available for public inspection in the Agencywide Document Access and Management System (ADAMS) in the NRC Public Document Room located at One White Flint North, 11555 Rockville Pike, Public File Area O1 F21, Rockville, Maryland. The information is also available electronically from the Publicly Available Records (PARS) component of ADAMS (ADAMS # ML031820084). ADAMS is accessible from the NRC Web site at http://www.nrc.gov/reading-rm/adams.html (the Public Electronic Reading Room). For more information, contact the NRC Public Document Room (PDR) Reference staff at 1-800-397-4209, 202-634-3273 or by e-mail to pdr@nrc.gov. In addition, the draft proposal and additional associated documentation can be found on NRC's Web site under the combined license discussion on the following Web page: http://www.nrc.gov/reactors/new-licensing/licensing-process.html.

Written comments on the draft proposal should be sent to: Chief, Rules and Directives Branch, Division of Administrative Services, Office of Administration, Mail Stop T6-D59, Nuclear Regulatory Commission, Washington, DC 20555-0001. Comments may be hand-delivered to the NRC at 11545 Rockville Pike, Rockville, Maryland, between 7:45 a.m. and 4:15 p.m. on Federal workdays. Comments may be submitted electronically by the Internet to the NRC at nrcrep@nrc.gov. All comments received by the Commission, including those made by Federal, State, and local agencies, Indian tribes, or other interested persons, will be made available electronically at the Commission's PDR in Rockville, Maryland or from the PARS component of NRC's document system (ADAMS).

SUPPLEMENTARY INFORMATION: In 1989, the NRC established new alternatives for nuclear plant licensing under Title 10 of the Code of Federal Regulations (10 CFR) Part 52, which describes, among other things, a process for issuing a combined construction and operating license, or combined license (COL). A COL authorizes construction and, with conditions, operation of a nuclear power plant. A COL application must describe the conditions (the ITAAC) that are necessary to ensure that the plant has been properly constructed and will operate safely. After issuing a COL, the NRC verifies that the licensee has completed the required ITAAC before the plant can operate. The NRC publishes notices of the successful completion of the ITAAC. Then, at least 180 days before the scheduled date for initial loading of nuclear fuel into the reactor, the NRC publishes a notice of intended operation. The notice will provide that any person whose interest may be affected by operation of the plant may request the Commission to hold a hearing on whether the facility complies, or on completion will comply with the acceptance criteria in the COL. A request for a hearing must demonstrate that the licensee has not met or will not meet the acceptance criteria in the COL.

The principle issue to be discussed at the workshop is the staff's draft proposal that categorizes operational programs such as emergency planning and training into those that will likely require ITAAC, those that may or may not require ITAAC (depending on the level of information available at the COL stage), and those that will be unlikely to require ITAAC. The staff would also like to discuss its proposal relative to the level of information needed for operational programs such as fire protection in order to issue a COL without ITAAC for any particular program.

In SECY-02-0067, “Inspections, Tests, Analyses, and Acceptance Criteria for Operational Programs (Programmatic ITAAC),” the staff requested Commission approval for its position that COLs for a nuclear power plant submitted in accordance with the requirements of 10 CFR Part 52 Subpart C contain ITAAC for operational programs required by regulations such as training and emergency planning (ADAMS Accession Number ML020700641). The Commission disapproved the staff's position in a September 11, 2002, staff requirements memorandum (SRM) (ADAMS Accession Number ML022540755). The Commission approved a much more limited use of programmatic ITAAC than that proposed by the staff. The Commission directed the staff to resolve the maximum number of programmatic issues prior to issuing a COL. The Commission also directed the staff to develop appropriate guidelines to support the submission of necessary and sufficient information on programs in COL applications and clarify when programs beyond emergency planning, if any, call for or are likely to call for ITAAC in the COL application.

In a public meeting on May 22, 2003, the NRC staff discussed a response to the SRM including a discussion of the following option. A draft standard review plan Section 14.3 Appendix E, “Programmatic ITAAC” would be developed for guidance. The staff stated that it was considering categorizing the 14 programs that it listed in SECY-02-0067 in the following manner as part of this guidance:

Category A: Programmatic ITAAC are required. A program that falls into this category is emergency planning.

Category B: Programmatic ITAAC are not necessary because hardware-related ITAAC address the results to which the program is directed. Examples of programs that may fall into this category are equipment qualification, quality assurance, and containment leak rate testing.

Category C: An ITAAC for a program or elements of the program is not necessary because the program and its implementation can be fully described ¹ in the application and found to be acceptable at the COL stage.²

¹ A principal issue for these categories is what constitutes a “fully described” program.

² The following programs may fall into Category C or D depending on the information provided at the time of the COL: fire protection, radiation protection, security, fitness for duty, training, access authorization, reportability, licensed operator training.

Category D: An ITAAC for a program or elements of the program is necessary because the program and its implementation cannot be fully described¹ in the application. That is, the COL applicant cannot provide the necessary and sufficient programmatic information for approval of the COL without ITAAC.²

Category E: An ITAAC for a program is not necessary because ITAAC will be dispositioned prior to fuel load and the program is not required to be implemented until after fuel load. Examples of programs that may fall into this category include the inservice inspection and inservice testing programs, and the maintenance rule program.

Subsequent to the May 22, 2003, meeting the NRC staff developed a proposal to use the fire protection program as an example program to illustrate the level of detail needed to determine if programmatic ITAAC are necessary. The fire protection program was chosen because it could fall into Category C or D above depending on the information provided at the time of a COL application.

During the workshop the following topics will be discussed:

• Is the categorization of the 14 programs listed in SECY-02-0067 appropriate?

—Are there programs that are missing from the list?

—Should any of the programs be placed in different categories?

• The NRC staff would like to discuss the programs that fall into Categories C and D. The NRC staff's proposal uses the fire protection program for the AP600 standard nuclear reactor design and the Callaway Plant as a starting point to develop guidelines for the level of programmatic information that would be needed in order to issue a COL without ITAAC for that program. Is the level of detail contained in the staff's proposal appropriate?

A specific agenda for the workshop will be developed and made available prior to the meeting. To assure a diversity of viewpoints, the NRC is inviting stakeholders from the nuclear power industry, representatives from citizens groups, and State agencies, to sit in a roundtable discussion. Although the focus of the meeting will be on the roundtable discussion, there will be opportunities for members of the audience to offer comments and ask questions. Questions related to the staff's draft proposal should be directed to Joseph Sebrosky. Questions related to the public meeting process should be directed to Mr. Chip Cameron. Mr. Sebrosky's and Mr. Cameron's contact information is provided above.

Dated at Rockville, Maryland, this 18th day of July, 2003.
For The Nuclear Regulatory Commission.
James E. Lyons,
Program Director, New, Research and Test Reactors Program, Division of Regulatory Improvement Programs, Office of Nuclear Reactor Regulation.

[FR Doc. 03-18843 Filed 7-23-03; 8:45 am]

BILLING CODE 7590-01-P